ENVIRONMENTAL PROTECTION AGENCY

[EPA-HQ-OW-2015-0668; 9940-23-OW]

Notice of an Extension To Provide Information on Existing Programs That Protect Water Quality From Forest Road Discharges

AGENCY: Environmental Protection Agency (EPA).

ACTION: Notice; extension of comment period.

SUMMARY: The Environmental Protection Agency (EPA) is extending the comment period for the notice, “Opportunity to Provide Information on Existing Programs that Protect Water Quality from Forest Road Discharges.” In response to stakeholder requests, EPA is extending the comment period for an additional 32 days, from January 11, 2016, to February 12, 2016.

DATES: The comment period for the notice, that was published on November 10, 2015 (80 FR 69653), is extended. Comments must be received on or before February 12, 2016.

ADDRESSES: Submit your comments, identified by Docket ID No. EPA-HQ-OW-2015-0668, to the Federal eRulemaking Portal: http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Prasad Chumble, EPA Headquarters, Office of Water, Office of Wastewater Management via email at chumble.prasad@epa.gov or telephone at 202-564-0021.

SUPPLEMENTARY INFORMATION: On November 10, 2015 EPA published in the Federal Register (80 FR 69653) a request for information and comments on existing public and private sector programs that address stormwater discharges from forest roads. This information will assist EPA in responding to the remand in Environmental Defense Center, Inc. v. U.S. EPA, 344 F.2d 832 (9th Cir. 2003) that requires EPA to consider whether the Clean Water Act requires the Agency to regulate stormwater discharges from forest roads. EPA is considering the implementation, effectiveness, and scope of existing programs in addressing water quality impacts attributable to stormwater discharges from forest roads to assist in responding to the court's question. The Agency plans to assess a variety of existing programs, including federal, state, local, tribal, third party certifications, and combinations of these approaches, including voluntary best management practices (BMP)-based approaches. In preparing its response to the remand, EPA is coordinating with other federal agencies, and will assess whether any additional stormwater controls are called for, consistent with federal law, including the 2014 amendments to the Clean Water Act. As initially published in the Federal Register, written comments were to be submitted to EPA on or before January 11, 2016 (a 60-day public comment period). Since publication, EPA has received several requests for additional time to submit comments. EPA is extending the public comment period for 32 days until February 12, 2016.

Dated: December 8, 2015.
Joel Beauvais,
Acting Deputy Assistant Administrator, Office of Water.

[FR Doc. 2015-31664 Filed 12-16-15; 8:45 am]

BILLING CODE 6560-50-P